DEPARTMENT OF ENERGY

Federal Energy Regulatory Commission

[Docket No. RP01-606-000]

KO Transmission Company; Notice of Tariff Failing and Annual Charge Adjustment

September 20, 2001.

Take notice that on September 17, 2001, KO Transmission Company (KOT) tendered for filing as part of its FERC Gas Tariff, Original Volume No. 1, the following tariff sheet, bearing a proposed effective date of October 1, 2001:

Tenth Revised Sheet No. 10

KOT states that the purpose of the filing is to reflect the new Annual Charge Adjustment (ACA) surcharge to be applied to rates commencing October 1, 2001 of $0.0021 per dekatherm KOT states that copies of its filing will be mailed to all of its firm and interruptible transportation customers.

KOT states that copies of its filing are being mailed to its customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before September 27, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24008 Filed 9-25-01; 8:45 am]

BILLING CODE 6717-01-M